Proclamation 8400 of August 20, 2009

Minority Enterprise Development Week, 2009

By the President of the United States of America

A Proclamation

Our Nation’s strength rests on the ingenuity and creativity of the American people. Across our country, almost 4 million minority-owned firms exemplify this spirit as they create jobs, develop new products and services, and promote community and economic development. The growth and expansion of these businesses is an increasingly critical part of our economic recovery and long-term prosperity.

At a time when too many Americans are facing extraordinary economic challenges, supporting the development of minority-owned enterprises will help accelerate the revitalization of our economy. Of the 630,000 minority-owned employer firms, these businesses are providing employment and stability to 4.7 million workers while renewing urban neighborhoods and rural communities. They represent a key component of future growth for our economy.

Minority Enterprise Development Week is an opportunity to commemorate the tremendous value minority entrepreneurs and their employees bring to our economy and our Nation as a whole. They embody the timeless American values of hard work, integrity, and optimism. They also serve as role models to countless children who want to start their own business or reach their personal goals. Through their accomplishments and example, these leaders affirm that, with determination and commitment, every American can achieve his or her potential and live out their dreams.

NOW, THEREFORE, I, BARACK OBAMA, President of the United States of America, by virtue of the authority vested in me by the Constitution and laws of the United States do hereby proclaim August 23 through August 29, 2009, as Minority Enterprise Development Week. I call upon all Americans to celebrate this week with appropriate programs, ceremonies, and activities to recognize the many contributions of our Nation’s minority enterprises.

IN WITNESS WHEREOF, I have hereunto set my hand this twentieth day of August, in the year of our Lord two thousand nine, and of the Independence of the United States of America the two hundred and thirty-fourth.

[FR Doc. E9-20693

Filed 8-25-09; 8:45 am]

Billing code 3195-W9-P